CONSUMER PRODUCT SAFETY COMMISSION

16 CFR Part 1109 and 1500

[Docket No. CPSC-2011-0081]

Amendment To Clarify When Component Part Testing Can Be Used and Which Textile Products Have Been Determined Not To Exceed the Allowable Lead Content Limits

AGENCY: U.S. Consumer Product Safety Commission.

ACTION: Notice of proposed rulemaking.

SUMMARY: The Consumer Product Safety Act (“CPSA”) requires third party testing and certification of children's products that are subject to children's product safety rules. The Consumer Product Safety Commission (“Commission” or “CPSC”) has previously issued regulations related to this requirement: A regulation that allows parties to test and certify component parts of products under certain circumstances; and a regulation determining that certain materials or products do not require lead content testing. The Commission is proposing to clarify when component part testing can be used and clarify which textile products have been determined not to exceed the allowable lead content limits. In the “Rules and Regulations” section of this Federal Register, the Commission is issuing this determination as a direct final rule. If we receive no significant adverse comment in response to the direct final rule, we will not take further action on this proposed rule.

DATES: Submit comments by November 13, 2015.

ADDRESSES: You may submit comments, identified by Docket No. CPSC-2011-0081, by any of the following methods:

Electronic Submissions: Submit electronic comments to the Federal eRulemaking Portal at: www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: www.regulations.gov. Do not submit confidential business information, trade secret information, or other sensitive or protected information that you do not want to be available to the public. If furnished at all, such information should be submitted in writing.

Docket: For access to the docket to read background documents or comments received, go to: www.regulations.gov, and insert the docket number CPSC-2011-0081, into the “Search” box, and follow the prompts.

FOR FURTHER INFORMATION CONTACT: Kristina Hatlelid, Ph.D., M.P.H., Directorate for Health Sciences, U.S. Consumer Product Safety Commission, 5 Research Place, Rockville, MD 20850; (301) 987-2558; email; khatlelid@cpsc.gov.

SUPPLEMENTARY INFORMATION: Along with this proposed rule, CPSC is publishing a direct final rule in the “Rules and Regulations” section of this issue of the Federal Register. This direct final rule clarifies when the component part testing can be used and clarifies which textile products have been determined not to exceed the allowable lead content limits. CPSC believes that the clarifications contained in the proposed rule are not controversial, and CPSC does not expect significant adverse comment. CPSC has explained the reasons for the clarifications in the direct final rule. Unless CPSC receives significant adverse comment regarding the clarifications during the comment period, the direct final rule in this issue of the Federal Register will become effective December 14, 2015, and CPSC will not take further action on this proposal. If a significant adverse comment is received for an amendment to only one of the two rules being revised in the direct final rule, CPSC will withdraw only the amendment to the rule that is the subject of a significant adverse comment. If CPSC receives a significant adverse comment, CPSC will publish a notice in the Federal Register withdrawing the direct final rule, and the rule will not take effect. CPSC will then respond to public comments in a later final rule, based on this proposed rule. CPSC does not intend to institute a second comment period on this action. Parties interested in commenting on this determination must do so at this time. For additional information, please see the direct final rule published in the “Rules and Regulations” section of this issue of the Federal Register.

Dated: October 7, 2015.
Todd A. Stevenson,
Secretary, Consumer Product Safety Commission.

[FR Doc. 2015-25933 Filed 10-13-15; 8:45 am]

BILLING CODE 6355-01-P